NUCLEAR REGULATORY COMMISSION

[Docket Nos. 50-387 and 50-388]

In the Matter of PPL Susquehanna, LLC, Allegheny Electric Cooperative, Inc. (Susquehanna Steam Electric Station, Units 1 and 2); Order Approving Application Regarding Proposed Corporate Restructuring

I

PPL Susquehanna, LLC (PPL Susquehanna or the licensee), owns 90 percent and Allegheny Electric Cooperative, Inc., owns 10 percent of the Susquehanna Steam Electric Station (SSES), Units 1 and 2, located in Luzerne County, Pennsylvania. PPL Susquehanna exclusively operates the facility.

PPL Susquehanna is a wholly owned, direct subsidiary of PPL Generation, LLC, which is a wholly owned, direct subsidiary of PPL Energy Funding Corporation. PPL Energy Funding Corporation is a wholly owned, direct subsidiary of PPL Corporation, the ultimate parent of PPL Susquehanna. PPL Susquehanna and Allegheny Electric Cooperative, Inc., jointly hold Facility Operating Licenses Nos. NPF-14 for SSES Unit 1 and NPF-22 for SSES Unit 2, issued by the U.S. Nuclear Regulatory Commission (NRC or the Commission) pursuant to part 50 of Title 10 of the Code of Federal Regulations (10 CFR part 50) on July 17, 1982, and March 23, 1984, respectively.

II

Pursuant to Section 184 of the Atomic Energy Act of 1954, as amended, and 10 CFR 50.80, PPL Susquehanna filed an application dated March 6, 2001, which was supplemented by a submittal dated April 4, 2001 (collectively herein referred to as the application), requesting the Commission's consent to the indirect transfer of the SSES Units 1 and 2 licenses, to the extent held by PPL Susquehanna, in connection with the proposed corporate restructuring of PPL Susquehanna's parent organization involving the addition of PPL Energy Supply, LLC, as an intermediary, indirect parent of PPL Susquehanna. The application does not involve Allegheny Electric Cooperative, Inc.

Upon completion of the restructuring, PPL Energy Supply, LLC, will become a wholly owned, direct subsidiary of PPL Energy Funding Corporation and the direct parent of PPL Generation, LLC. PPL Susquehanna, therefore, will become an indirect wholly owned subsidiary of PPL Energy Supply, LLC. No physical changes to the SSES facilities or operational changes are proposed in the application. PPL Susquehanna, the SSES Units 1 and 2 licensee authorized to operate and maintain the facility, and PPL Susquehanna and Allegheny Electric Cooperative, Inc., the licensed owners of SSES Units 1 and 2, will continue to be so following the restructuring. No direct transfer of the license will result from the planned restructuring. Notice of this request for approval was published in the Federal Register on April 25, 2001 (66 FR 20839). No hearing requests or written comments were received.

Under 10 CFR 50.80, no license shall be transferred, directly or indirectly, through transfer of control of the license, unless the Commission gives its consent in writing. Upon review of the information submitted in the application and other information before the Commission, the NRC staff has determined that the proposed restructuring of PPL Susquehanna's parent organization described above will not affect the qualifications of PPL Susquehanna as a holder of the SSES Units 1 and 2 licenses, and that the indirect transfer of the licenses, to the extent effected by the restructuring, is otherwise consistent with applicable provision of laws, regulations, and orders issued by the Commission subject to the conditions set forth herein. These findings are supported by a safety evaluation dated May 25, 2001.

III

Accordingly, pursuant to Sections 161b, 161i, and 184 of the Atomic Energy Act of 1954, as amended, 42 U.S.C. 2201(b), 2201(i), and 2234; and 10 CFR 50.80, It is hereby ordered that the application regarding the indirect license transfer referenced above is approved subject to the following condition:

Should the corporate restructuring described above not be completed by June 1, 2002, this Order shall become null and void, provided, however, upon application and for good cause shown, such date may be extended.

This Order is effective upon issuance.

IV

For further details with respect to this Order, see the initial application dated March 6, 2001, the supplemental submittal dated April 4, 2001, and the safety evaluation dated May 25, 2001, which are available for inspection at the Commission's Public Document Room, U.S. Nuclear Regulatory Commission, One White Flint North, Room O-1 F21, 11555 Rockville Pike, Rockville, MD 20852-2738, and accessible electronically through the ADAMS Public Electronic Reading Room link at the NRC Web site (http://www.NRC.gov).

Dated at Rockville, Maryland, this 25th day of May 2001.
For the Nuclear Regulatory Commission.
David B. Matthews,
Acting Director, Office of Nuclear Reactor Regulation.

[FR Doc. 01-14267 Filed 6-5-01; 8:45 am]

BILLING CODE 7590-01-P